COMMODITY FUTURES TRADING COMMISSION

Agency Information Collection Activities Under OMB Review

AGENCY: Commodity Futures Trading Commission.

ACTION: Notice; correction.

SUMMARY: This document contains corrections to the Information Collection Request (ICR) notice section “Burden Statement,” which the Commodity Futures Trading Commission published in the Federal Register on November 19, 2014. The ICR describes the nature of the information collection and its expected costs and burden.

FOR FURTHER INFORMATION CONTACT: Dana Brown, Division of Market Oversight, Commodity Futures Trading Commission, (202) 418-5093; email: dbrown@cftc.gov. This contact can also provide a copy of the ICR.

Correction

In the Federal Register of November 19, 2014, in FR Doc. 2014-27402, on page 68870, correct the table entitled ESTIMATED ANNUAL REPORTING BURDEN, which appears across three columns following the Burden Statement paragraph in the SUPPLEMENTARY INFORMATION, to read:

Estimated Annual Reporting and Recordkeeping Burden
17 CFR 20
Annual Number of Respondents | 3,998
Total Annual Responses | 88,768
Hours per Response | 0.71225
Total hours | 63,225

Dated: December 11, 2014.
Christopher J. Kirkpatrick,
Secretary of the Commission.

[FR Doc. 2014-29436 Filed 12-15-14; 8:45 am]

BILLING CODE 6351-01-P